DEPARTMENT OF COMMERCE

International Trade Administration

[A-552-802, A-570-893]

Notice of Initiation of Administrative Reviews of the Antidumping Duty Orders on Certain Frozen Warmwater Shrimp From the Socialist Republic of Vietnam and the People's Republic of China

AGENCY: Import Administration, International Trade Administration, Department of Commerce.

SUMMARY: The Department of Commerce (“the Department”) received timely requests to conduct administrative reviews of the antidumping duty orders on certain frozen warmwater shrimp (“shrimp”) from the Socialist Republic of Vietnam (“Vietnam”) and the People's Republic of China (“PRC”). The anniversary month of these orders is February. In accordance with the Department's regulations, we are initiating these administrative reviews.

EFFECTIVE DATE: April 6, 2007.

FOR FURTHER INFORMATION CONTACT: Alex Villanueva (Vietnam) or Christopher Riker (PRC), AD/CVD Operations, Office 9, Import Administration, International Trade Administration, U.S. Department of Commerce, 14th Street and Constitution Avenue, NW., Washington, DC 20230, telephone: (202) 482-3208 or (202) 482-3441, respectively.

Background

On February 2, 2007, the Department published in the Federal Register its Antidumping or Countervailing Duty Order, Finding, or Suspended Investigation; Opportunity To Request Administrative Review, 72 FR 5007 (“Notice of Opportunity”). In the Notice of Opportunity, the Department stated “for any party the Department was unable to locate in prior segments, the Department will not accept a request for an administrative review of that party absent new information as to the party's location. Moreover, if the interested party who files a request for review is unable to locate the producer or exporter for which it requested the review, the interested party must provide an explanation of the attempts it made to locate the producer or exporter at the same time it files its request for review, in order for the Secretary to determine if the interested party's attempts were reasonable, pursuant to 19 CFR 351.303(f)(3)(ii).” See Notice of Opportunity at 72 FR 5008.

PRC

The Department received timely requests from the Ad Hoc Shrimp Trade Action Committee (“Petitioners”), the Louisiana Shrimp Association (“LSA”), Zhanjiang Evergreen Aquatic Product Science and Technology Co., Ltd. (“Evergreen”), Asian Seafoods (Zhanjiang) Co., Ltd. (“Asian Seafoods”), Hai Li Aquatic Co., Ltd. Zhao An, Fujian (“Hai Li”),¹ and the Allied Pacific Group,² in accordance with 19 CFR 351.213(b), during the anniversary month of February, for administrative reviews of the antidumping duty orders on shrimp from the PRC. Petitioners requested an administrative review for 401 companies, while LSA requested an administrative review for 162 companies. Subsequently, Petitioners withdrew their request for review for the PRC for all but eight companies. See Petitioners' letters dated March 1, 2007, March 16, 2007, and March 27, 2007.

¹ In its review request, Hai Li noted that it is also known as Haili Aquatic Co., Ltd. Zhaoan, Fujian.

² The Allied Pacific Group consists of Allied Pacific Food (Dalian) Co., Ltd., Allied Pacific Aquatic Products (Zhanjiang) Co., Ltd., Zhanjiang Allied Pacific Aquaculture Co., Ltd., Allied Pacific (H.K.) Co., Ltd., and King Royal Investments Ltd.

With respect to the LSA's requests for administrative review the Department notes that, for the following 58 companies, the addresses provided for those entities were identical to those provided to the Department in the previous administrative review and were found to be undeliverable: Allied Pacific Aquatic Products (Zhongshan) Co., Ltd., Allied Pacific Food, Chengai Nichi Lan Foods Co., Ltd., Dhin Foong Trdg, Dongri Aquatic Products Freezing Plants Shengping, Evergreen Aquatic Product Science and Technology, Formosa Plastics, Fuqing Xuhu Aquatic Food Trdg, Fuchang Trdg, Fuqing Chaohui Aquatic Food Trdg, Fuqing City Dongyi Trdg, Fuqing Dongwei Aquatic Products Industry Co., Ltd., Fuqing Dongyi Trdg, Fuqing Fuchang Trdg, Fuqing Longwei Aquatic Foodstuff, Gallant Ocean (Liangjiang) Co., Ltd., Gaomi Shenyuan Foodstuff, Guangxi Lian Chi Home Appliance Co, Hainan Jiadexin Aquatic Products Co., Ltd., IT Logistics, Juxian Zhonglu Foodstuffs, Logistics Harbour Dock, Longwei Aquatic Foodstuff, Master International Logistics, Meizhou Aquatic Products, Nichi Lan Food Co., Ltd. Chen Hai, P&T International Trading, Perfection Logistics Service, Phoenix Seafood, Putuo Fahua Aquatic Products Co., Ltd., Qingdao Dayang Jian Foodstuffs, Qinhuangdao Jiangxin Aquatic Food, Round The Ocean Logistics, Second Aquatic Food, Second Aquatic Foodstuffs Fty, Shandong Chengshun Farm Produce Trd, Shandong Sanfod Group, Shanghai Taoen International Trading Co., Ltd., Shantou Junyuan Pingyuan Foreign Trading, Shantou Sez Xuhoa Fastness Freeze Aquatic Factory Co, South Bay Intl, Taizhou Lingyang Aquatic Products Co., Ltd., Tianhe Hardware & Rigging, Xiamen Sungiven Imports & Exports, Yantai Guangyuan Foods Co, Yantai Xuehai Foodstuffs, Yelin Frozen Seafood Co., Zhangjiang Newpro Food Co., Ltd., Zhanjiang CNF Sea Products Engineering Ltd., Zhanjiang Fuchang Aquatic Products, Zhanjiang Jebshin Seafood Limited, Zhanjiang Shunda Aquatic Products, Zhejiang Taizhou Lingyang Aquatic Products Co., Zhejiang Zhongda, Zhoushan Guangzhou Aquatic Products Co., Ltd., Zhoushan International Trade Co., Ltd., Zhoushan Provisions & Oil Food Export and Import Co., Ltd., and Zhoushan Xi'an Aquatic Products Co., Ltd. See Certain Frozen Warmwater Shrimp From the People's Republic of China: Preliminary Results and Partial Rescission of the 2004/2006 Administrative Review and Preliminary Intent to Rescind 2004/2006 New Shipper Review, 72 FR 10645, 10647-8 (March 9, 2007) (“PRC Shrimp 2004-2006 Preliminary Results”) and Memorandum to the File, from Anya Naschak, regarding: Placement of Undeliverable Addresses Information from the 2004-2006 Antidumping Duty Administrative Review of Certain Frozen Warmwater Shrimp from the People's Republic of China on the Record of the 2006-2007 Administrative Review of Certain Frozen Warmwater Shrimp from the People's Republic of China, dated April 2, 2007 (“PRC Undeliverable Addresses Memo”) at Attachments I and II.

The LSA requested that the Department reconsider its decision, as defined in the Notice of Opportunity, to not accept a review request for a company absent new address information. See LSA's PRC Review Requests at 4-5. However, although the LSA states that it attempted to find additional address information, the LSA has provided no additional address information for any of these companies, beyond what was previously provided in the 2004-2006 administrative review of shrimp from the PRC. See PRC Undeliverable Addresses Memos at Attachment I. Therefore, although the LSA requested that the Department reconsider its decision, we continue to find that it is inappropriate to initiate an administrative review of companies which we know that we cannot locate. Based on previous unsuccessful efforts by the Department to locate these companies, further efforts would be futile, absent new information as to their location. Accordingly, the Department is not initiating on the above-referenced 58 companies from the PRC.

In addition, the LSA has requested that the Department conduct an administrative review from the PRC of Zhanjiang Guolian Aquatic Products Co., Ltd. (“Guolian”). However, Guolian is excluded from the antidumping duty order on shrimp from the PRC. See Notice of Amended Final Determination of Sales at Less Than Fair Value and Antidumping Duty Order: Certain Frozen Warmwater Shrimp From the People's Republic of China, 70 FR 5149 (February 1, 2005) (“PRC Shrimp Order”). Thus, the Department is also not initiating an administrative review for Guolian.

Therefore, the Department is hereby initiating the second administrative review of the antidumping duty order on shrimp from the PRC for the remaining 105 companies for which the Department has received a sufficient request for review.

Vietnam

The Department received timely requests from Petitioners, the LSA, and certain individual companies, in accordance with 19 CFR 351.213(b), during the anniversary month of February, for administrative reviews of the antidumping duty orders on shrimp from Vietnam. Petitioners requested an administrative review for 92 companies, while the LSA requested an administrative review for 84 companies from Vietnam.

On February 28, 2007, Grobest & I-Mei Industrial (Vietnam) Co. Ltd. (“Grobest”), Vietnam Fish-One Co., Ltd (“Vietnam Fish-One”), and 20 other individual exporters,³ self-requested an administrative review of their sales during the POR. On March 30, 2007, Petitioners withdrew their review request of 58 companies.

³ Those Vietnamese companies listed below with an (*) are the additional 20 exporters self-requesting an administrative review.

Therefore, the Department is hereby initiating administrative reviews of the antidumping duty order on shrimp from Vietnam for the 100 companies for which the Department has received a sufficient request for review.

Initiation of Reviews

In accordance with section 751(a)(1) of the Tariff Act of 1930, as amended (“the Act”), we are initiating administrative reviews of the antidumping duty orders on shrimp from Vietnam and the PRC. We intend to issue the final results of these reviews on approximately February 28, 2008.

| Period to be reviewed
Antidumping Duty Proceeding
Vietnam: ⁴,⁵
Vietnam: ⁴,⁵ | 02/01/06-01/31/07
AAAS Logistics
Agrimex
Amanda Foods (Vietnam) Ltd
American Container Line
An Giang Fisheries Import and Export Joint Stock Company (Agifish)
Angiang Agricultural Technology Service Company
Aquatic Products Trading Company
Bac Lieu Fisheries Company Limited
Bentre Frozen Aquaproduct Exports
Bentre Aquaproduct Imports & Exports
C.P. Vietnam Livestock Co. Ltd
Ca Mau Seafood Joint Stock Company (“SEAPRIMEXCO”)*
Cadovimex Seafood Import-Export and Processing Joint Stock Company (“CADOVIMEX”)*
Cai Doi Vam Seafood Import-Export Company (Cadovimex)
Cafatex Fishery Joint Stock Corporation (“Cafatex Corp.”)*
Cantho Animal Fisheries Product Processing Export Enterprise (Cafatex)
Cam Ranh Seafoods Processing Enterprise Company (“Camranh Seafoods”)
Camau Frozen Seafood Processing Import Export Corporation, or Camau Seafood Factory No. 4 (“CAMIMEX”)*
Can Tho Agricultural and Animal Product Import Export Company (“CATACO”)*
Can Tho Agricultural Products
Can Tho Seafood Exports
Cautre Enterprises
Coastal Fishery Development
Coastal Fisheries Development Corporation (Cofidec)
Coastal Fisheries Development Corporation (Cofidec)
C P Vietnam Livestock Co. Ltd
C P Livestock
Cuulong Seaproducts Company (“Cuu Long Seapro”)*
Cuu Long Seaproducts Limited (“Cuulong Seapro”)
Danang Seaproducts Import Export Corporation and its wholly owned affiliated Tho Quang Seafood Processing and Export Company (“Seaprodex Danang”)*
Dong Phuc Huynh
Duyen Hai Bac Lieu Company (“T.K. Co.”)
Frozen Seafoods Fty
Frozen Seafoods Factory No. 32
General Imports & Exports
Grobest & I-Mei Industrial (Vietnam) Co. Ltd
Grobest & I-Mei Industry Vietnam
Hacota
Hai Thuan Export Seaproduct Processing Co., Ltd
Hai Viet
Hanoi Seaproducts Import Export Corporation (“Seaprodex Hanoi”)
Hatrang Frozen Seaproduct Fty
Hoa Nam Marine Agricultural
Investment Commerce Fisheries Corporation (“Incomfish”)
Khanh Loi Trading
Kien Gang Seaproduct Import and Export Company (“Kisimex”)
Kien Gang Sea Products Import and Export Company (“Kisimex”)
Kim Anh Co., Ltd
Lamson Import-Export Foodstuffs Corporation
Minh Hai Export Frozen Seafood Processing Joint Stock Company
Minh Hai Export Frozen Seafood Processing Joint Stock Company (“Minh Hai Jostoco”)*
Minh Hai Joint-Stock Seafoods Processing Company (“Seaprodex Minh Hai”)*
Minh Hai Sea Products Import Export Company (Seaprimex Co)
Minh Phat Seafood Co., Ltd
Minh Phat Seafood
Minh Phu Seafood Export Import Corporation (and affiliates Minh Qui Seafood Co., Ltd. and Minh Phat Seafood Co., Ltd.)*
Minh Phu Seafood Corp.
Minh Phu Seafood Corporation
Minh Qui Seafood
Minh Qui Seafood Co., Ltd
Ngoc Sinh Private Enterprise*
Ngoc Sinh Seafoods
Nha Trang Company Limited
Nha Trang Fisheries Co. Ltd
Nha Trang Fisheries Joint Stock Company (“Nha Trang Fisco”)
Nha Trang Seaproduct Company (“Nha Trang Seafoods”)*
Pataya Food Industry (Vietnam) Ltd
Phu Cuong Seafood Processing and Import-Export Co., Ltd.*
Phuong Nam Co. Ltd.*
Phuong Nam Seafood Co. Ltd
Saigon Orchide
Sao Ta Foods Joint Stock Company (“Fimex VN”)*
Sea Product
Sea Products Imports & Exports
Seafood Processing Imports-Exports
Seaprodex
Soc Trang Aquatic Products and General Import Export Company (“Stampimex”)*
Sonacos
Song Huong ASC Import-Export Company Ltd
Song Huong ASC Joint Stock Company
Special Aquatic Products Joint Stock Company (“Seaspimex”)
Tacvan Frozen Seafoods Processing Export Company
Thami Shipping & Airfreight
Thanh Long
Thien Ma Seafood
Tho Quang Seafood Processing & Export Company
Thuan Phuoc Seafoods and Trading Corporation and its separate factories Frozen Seafood Factory No. 32 and Seafoods and Foodstuff Factory (Thuan Phuoc)*
Tourism Material and Equipment Company (Matourimex Hochiminh City Branch)
Truc An Company
UTXI Aquatic Products Processing Company*
Viet Foods Co., Ltd. (“Viet Foods”)*
Viet Hai Seafoods Company Ltd. (“Vietnam Fish One Co. Ltd.”)
Viet Hai Seafoods Company Ltd. (“Vietnam Fish One Co. Ltd.”)
Viet Nhan Company
Vietnam Fish-One Co., Ltd. (Vietnam Fish-One)
Vietnam Northern Viking Technologie Co., Ltd
Vietnam Northern Viking Technology Co., Ltd
Vilfood Co
Vinh Loi Import Export Company (“Vimexco”)*
Vita
V N Seafoods
PRC: ⁶ | 02/01/06-01/31/07
Allied Pacific (H.K.) Co. Ltd
Allied Pacific Aquatic Products (Zhangjiang) Co., Ltd
Allied Pacific Aquatic Products (Zhanjiang) Co., Ltd
Allied Pacific Food (Dalian) Co. Ltd
Ammon International
Asian Seafoods (Zhanjiang) Co., Ltd
Aquatic Foodstuffs FTY
Baofa Aquatic Products Co., Ltd
Beihai Zhengwu Industry Co., Ltd
Chaoyang Qiaofeng Group Co., Ltd. (Shantou Qiofeng (Group) Co., Ltd.) (Shantou/Chaoyang Qiaofeng)
CITIC Heavy Machinery
Dafu Foods Industry
Dalian FTZ Sea-Rich International Trading Co., Ltd
Dalian Shan Li Food
Dalian Shanhai Seafood
Dongri Aquatic Products Freezing Plants
Dongshan Xinhefa Food
Fuchang Aquatic Products
Fuqing Chaohui Aquatic Food Co., Ltd
Fuqing Yihua Aquatic Products Co., Ltd
Gallant Ocean International
Gallant Seafoods
Go Harvest Aquatic Products
Guangzhou Lingshan Aquatic Products
Guolian Aquatic Products
Hai Li Aquatic Co., Ltd. Zhao An, Fujian/Haili Aquatic Co., Ltd. Zhaoan Fujian
Hainan Fruit Vegetable Food Allocation Co., Ltd
Hainan Golden Spring Foods Co., Ltd/ Hainan Brich Aquatic Products Co., Ltd
Hainan Jiadexin Foodstuff
Jinfu Trading Co., Ltd
Jinhang Aquatic Industry
Kaifeng Ocean Sky Industry
King Royal Investments, Ltd
Laiyang Hengrun Foodstuff
Laiyang Luhua Foodstuffs
Leizhou Zhulian Frozen Food Co., Ltd
Longsheng Aquatic Product
Luk Ka Paper Industry
Marnex
Meizhou Aquatic
Meizhou Aquatic Products Quick-Frozen Industry Co., Ltd
North Supreme Seafood (Zhejiang) Co., Ltd
Ocean Freezing Industry & Trade General
Pingyang Xinye Aquatic Products Co., Ltd
Polypro Plastics
Power Dekor Group Co., Ltd
Red Garden Food
Red Garden Foodstuff
Rongcheng Tongda Aquatic Food
Ruian Huasheng Aquatic Products
Savvy Seafood Inc.
Sealord North America
Seatrade International
Shanghai Linghai Fisheries Economic and Trading Co.
Shantou City Qiaofeng Group
Shantou Freezing Aquatic Product Food Stuffs Co.
Shantou Jinhang Aquatic Industry Co., Ltd
Shantou Jinyuan District Mingfeng Quick-Frozen Factory
Shantou Long Feng Foodstuffs Co., Ltd. (Shantou Longfeng Foodstuffs Co., Ltd.)
Shantou Longsheng Aquatic Product
Shantou Ocean Freezing Industry and Trade General Corporation
Shantou Red Garden Foodstuff
Shantou Red Garden Food Processing Co
Shantou Ruiyuan Industry Co., Ltd
Shantou Shengping Oceanstar Business Co., Ltd
Shantou Wanya Food Factory Co., Ltd
Shantou Yuexing Enterprise Company
Silvertie Holding
Spectrum Plastics
Taizhou Zhonghuan Industrial Co., Ltd
The Second Aquatic Food
Weifang Taihua Food
Weifang Yongqiang Food Ind
Wenling Xingdi Aquatic Products
Xuwen Hailang Breeding Co., Ltd
Yangjiang City Yelin Hoitat Quick Frozen Seafood Co., Ltd
Yantai Wei-Cheng Food Co., Ltd
Yantai Xinlai Trade
Yelin Enterprise Co., Ltd. Hong Kong
Zhangjiang Bobogo Ocean Co., Ltd
Zhanjiang Allied Pacific Aquaculture Co., Ltd
Zhanjiang Evergreen Aquatic Product Science and Technology Co., Ltd
Zhanjiang Go-Harvest Aquatic Products Co., Ltd
Zhanjiang Regal Integrated Marine Resources Co. Ltd
Zhanjiang Runhai Foods Co., Ltd
Zhanjiang Universal Seafood Corp
Zhejiang Cereals, Oils & Foodstuff Import & Export Co., Ltd
Zhejiang Daishan Baofa Aquatic Products Co., Ltd
Zhejiang Evernew Seafood Co., Ltd
Zhejiang Xingyang Import & Export
Zhejiang Xintianjiu Sea Products Co., Ltd
Zhejiang Zhenlong Foodstuffs Co., Ltd
Zhenjaing Evergreen Aquatic Products Science & Technology Co., Ltd
Zhoushan Cereals, Oils, and Foodstuffs Import and Export Co., Ltd
Zhoushan Diciyuan Aquatic Products
Zhoushan Guotai Aquatic Products Co., Ltd
Zhoushan Haichang Food Co
Zhoushan Huading Seafood Co., Ltd
Zhoushan Industrial Co., Ltd
Zhoushan Jingzhou Aquatic Products Co., Ltd
Zhoushan Lizhou Fishery Co., Ltd
Zhoushan Putuo Huafa Sea Products Co., Ltd
Zhoushan Xifeng Aquatic Co., Ltd
Zhoushan Zhenyang Developing Co., Ltd
ZJ CNF Sea Product Engineering Ltd. Viet Nhan Company
⁴ If one of the below-named companies does not qualify for a separate rate, all other exporters of shrimp from Vietnam that have not qualified for a separate rate are deemed to be covered by this review as part of the single Vietnam entity of which the named exporter is a part.
⁵ Some companies appear to be listed twice, but there are two addresses provided in the administrative review requests for similar named companies and therefore, we are listing them separately.
⁶ If one of the below-named companies does not qualify for a separate rate, all other exporters of shrimp from the PRC that have not qualified for a separate rate are deemed to be covered by this review as part of the single PRC entity of which the named exporter is a part.

Selection of Respondents

Section 777A(c)(1) of the Act directs the Department to calculate individual dumping margins for each known exporter and producer of the subject merchandise. Where it is not practicable to examine all known producers/exporters of subject merchandise because of the large number of such companies, section 777A(c)(2) of the Act permits the Department to limit its examination to either (1) a sample of exporters, producers, or types of products that is statistically valid based on the information available at the time of selection; or (2) exporters and producers accounting for the largest volume of subject merchandise from the exporting country that can be reasonably examined.

Due to the large number of firms requested for these administrative reviews and the resulting administrative burden to review each company for which a request has been made, the Department is exercising its authority to limit the number of respondents selected for review. See Section 777A(c) of the Act.

The Department intends to examine the largest exporters and producers by volume. Therefore, the Department has determined to send quantity and value (“Q&V”) questionnaires to the companies (or groups of companies where applicable) named above for the PRC and Vietnam to determine the largest exporters. See “Q&V QUESTIONNAIRE” section below for the procedures in this regard.

Separate Rates

In proceedings involving non-market economy (“NME”) countries, the Department begins with a rebuttable presumption that all companies within the country are subject to government control and, thus, should be assigned a single antidumping duty deposit rate. It is the Department's policy to assign all exporters of merchandise subject to investigation in an NME country this single rate unless an exporter can demonstrate that it is sufficiently independent so as to be entitled to a separate rate.

To establish whether a firm is sufficiently independent from government control of its export activities to be entitled to a separate rate, the Department's analysis mirrors that established in the Final Determination of Sales at Less Than Fair Value: Sparklers from the People's Republic of China, 56 FR 20588 (May 6, 1991) (“Sparklers”), as amplified by the Notice of Final Determination of Sales at Less Than Fair Value: Silicon Carbide from the People's Republic of China, 59 FR 22585 (May 2, 1994) (“Silicon Carbide”). In accordance with the separate rate criteria, the Department assigns separate rates to companies in NME cases only if respondents can demonstrate the absence of both de jure and de facto government control over export activities.

The Department recently modified the process by which exporters and producers may obtain separate rate status in NME investigations. See Policy Bulletin 05.1 Separate Rates Practice and Application of Combination Rates in Antidumping Investigations Involving Non-Market Economy Countries, (April 5, 2005), available on the Department's Web site at http://ia.ita.doc.gov/policy/bull05-1.pdf. The process now requires the submission of a separate rate status application.

Due to the large number of companies subject to administrative reviews in both the Vietnam and the PRC proceedings, the Department is requiring all companies listed above that wish to qualify for separate rate status in these administrative reviews to complete, as appropriate, either a separate rate status application or certification, as described below.

Because the Department intends to select the mandatory respondents by selecting the exporters/producers accounting for the largest volume of subject merchandise exported to the United States during the period of review, the Department will require all potential respondents to demonstrate their eligibility for a separate rate. For those respondents not representing the largest volume of subject merchandise exported to the United States, the Department will make separate rate determinations for each company. Only those respondents with separate rate status will be included in the group receiving the weighted-average margin calculated from the selected respondents. However, for any respondent that is determined later in this segment to have provided inaccurate information regarding its separate rate status, the Department may apply facts otherwise available with an adverse inference if it determines that such respondent failed to cooperate by not acting to the best of its ability.

For these administrative reviews, in order to demonstrate separate rate eligibility, the Department requires companies for which a review was requested and who currently have separate rates status to certify that they continue to meet the criteria for obtaining a separate rate. The certification form will be available on the Department's Web site at http://www.trade.gov/ia/ on the date of publication of this Federal Register notice. In responding to the certification, please follow the “Instructions for Filing the Certification” in the Separate Rate Certification. Certifications for both Vietnam and the PRC are due to the Department by close of business on April 23, 2007. The deadline and requirement for submitting a certification applies equally to NME-owned companies, wholly foreign-owned companies, and foreign resellers who purchase the subject merchandise and export it to the United States.

The Department requires, to demonstrate eligibility for a separate rate, a separate rates status application for companies that do not currently have separate rates status. The separate rate status application will be available on the Department's Web site at http://www.trade.gov/ia/ on the date of publication of this Federal Register notice. In responding to the separate rate status application, please refer to instructions contained within the application. Separate rate status applications are due to the Department by close of business on June 1, 2007. The deadline and requirement for submitting a separate rate status application applies equally to NME-owned companies, wholly-foreign owned companies, and foreign resellers that purchase the subject merchandise and export it to the United States. Further, due to the time constraints imposed by our statutory deadlines, the Department may be unable to grant any extensions for the submission of separate rate certifications or separate rate status applications.

Q&V Questionnaire

As discussed above, in advance of issuing the antidumping questionnaire, we will also be requiring all parties for whom a review is requested to respond to a Q&V questionnaire, which requests information on the respective quantity and U.S. dollar sales value of all exports of shrimp to the United States during the period February 1, 2006 through January 31, 2007. The Department will send the Q&V questionnaire to the companies (or groups of companies where applicable) named above. In addition, the Q&V questionnaire will be available on the Department's Web site at http://www.trade.gov/ia/. The responses to the Q&V questionnaire are due to the Department by close of business on April 23, 2007. Due to the time constraints imposed by our statutory and regulatory deadlines, the Department may be unable to grant any extensions for the submission of the Q&V questionnaire responses. In responding to the Q&V questionnaire, please refer to the instructions contained in the Q&V questionnaire.

All firms requested for review and seeking separate rate status in these administrative reviews must submit a separate rate status application or certification (as appropriate) as described above, and a complete response to the Q&V questionnaire, within the time limits established, and discussed above in this notice of initiation, in order to receive consideration for separate rate status. For parties that fail to timely respond to the requisite separate rate status application/certification, or to the Q&V questionnaire, the Department may resort to the use of facts otherwise available, and may employ an adverse inference. All information submitted by respondents in this administrative review is subject to verification. As discussed above, due to the large number of parties in these proceedings, and the Department's need to complete its proceedings within the statutory deadlines, the Department will be limited in its ability to extend deadlines on the above submissions. As noted above, the separate rate certification, and the separate rate status application will be available on the Department's Web site at http://www.trade.gov/ia/, in addition, the Q&V questionnaire will be mailed to the parties named above and is also available on the Department's Web site at http://www.trade.gov/ia/.

Interested parties must submit applications for disclosure under administrative protective orders in accordance with 19 CFR 351.305. Instructions for filing such applications may be found on the Department's Web site at http://ia.ita.doc.gov/.

This initiation and notice are in accordance with section 751(a)(1) of the Act and 19 CFR 351.221(c)(1)(i).

Dated: April 2, 2007.
James C. Doyle,
Office Director, AD/CVD Operations, Office 9.

[FR Doc. E7-6502 Filed 4-5-07; 8:45 am]

BILLING CODE 3510-DS-P